DEPARTMENT OF ENERGY

Federal Energy Regulatory Commission

Combined Notice of Filings #1

Take notice that the Commission received the following exempt wholesale generator filings:

Docket Numbers: EG23-120-000.

Applicants: Apex Solar LLC.

Description: Apex Solar LLC submits Notice of Self-Certification of Exempt Wholesale Generator Status.

Filed Date: 4/12/23.

Accession Number: 20230412-5199.

Comment Date: 5 p.m. ET 5/3/23.

Take notice that the Commission received the following Complaints and Compliance filings in EL Dockets:

Docket Numbers: EL23-60-000.

Applicants: Parkway Generation Keys Energy Center LLC v. PJM Interconnection, L.L.C.

Description: Complaint of Parkway Generation Keys Energy Center LLC v. PJM Interconnection, L.L.C.

Filed Date: 4/6/23.

Accession Number: 20230406-5234.

Comment Date: 5 p.m. ET 4/26/23.

Take notice that the Commission received the following electric rate filings:

Docket Numbers: ER10-1790-022; ER21-1716-004; ER14-2672-023; ER12-1825-036; ER22-2519-001; ER13-33-007; ER15-2483-003; ER10-2468-004; ER11-1853-001; ER10-2597-006; ER10-2481-006; ER11-2041-017; ER12-2200-008; ER10-3196-004; ER10-2273-004; ER11-2042-017; ER14-1317-011.

Applicants: Sunshine Gas Producers, LLC, Seneca Energy, II LLC, PEI Power II, LLC, PEI Power Corporation, Mehoopany Wind Energy LLC, Innovative Energy Systems, LLC, Ingenco Wholesale Power, L.L.C., Fowler Ridge III Wind Farm LLC, Fowler Ridge II Wind Farm LLC, Fowler Ridge Wind Farm LLC, LRI Renewable Energy LLC, Collegiate Clean Energy, LLC, Bellflower Solar 1, LLC, EDF Industrial Power Services (CA), LLC, EDF Energy Services, LLC, BP Energy Retail LLC, BP Energy Company.

Description: Second Supplement to January 31, 2023, Notice of Change in Status of BP Energy Company, et al.

Filed Date: 4/11/23.

Accession Number: 20230411-5198.

Comment Date: 5 p.m. ET 5/2/23.

Docket Numbers: ER14-2281-002.

Applicants: Homer City Generation, L.P.

Description: Compliance filing: Information Filing in Docket ER14-2281 to be effective N/A.

Filed Date: 4/12/23.

Accession Number: 20230412-5188.

Comment Date: 5 p.m. ET 5/3/23.

Docket Numbers: ER23-1241-001.

Applicants: IP Oberon, LLC.

Description: Tariff Amendment: Supplement to Applications for Market-Based Rate Authority to be effective 5/3/2023.

Filed Date: 4/13/23.

Accession Number: 20230413-5132.

Comment Date: 5 p.m. ET 4/24/23.

Docket Numbers: ER23-1517-001.

Applicants: IP Oberon II, LLC.

Description: Tariff Amendment: Supplement to Applications for Market-Based Rate Authority to be effective 5/30/2023.

Filed Date: 4/13/23.

Accession Number: 20230413-5135.

Comment Date: 5 p.m. ET 5/4/23.

Docket Numbers: ER23-1621-000.

Applicants: Tri-State Generation and Transmission Association, Inc.

Description: § 205(d) Rate Filing: Amendment to Rate Schedule FERC No. 20 to be effective 6/12/2023.

Filed Date: 4/12/23.

Accession Number: 20230412-5174.

Comment Date: 5 p.m. ET 5/3/23.

Docket Numbers: ER23-1622-000.

Applicants: Tri-State Generation and Transmission Association, Inc.

Description: Tariff Amendment: Notice of Cancellation of Rate Schedule FERC No. 312 to be effective 6/12/2023.

Filed Date: 4/12/23.

Accession Number: 20230412-5179.

Comment Date: 5 p.m. ET 5/3/23.

Docket Numbers: ER23-1623-000.

Applicants: Mesquite Solar 4, LLC.

Description: § 205(d) Rate Filing: Certificate of Concurrence to Assignment, Co-Tenancy and SFA to be effective 4/13/2023.

Filed Date: 4/12/23.

Accession Number: 20230412-5182.

Comment Date: 5 p.m. ET 5/3/23.

Docket Numbers: ER23-1624-000.

Applicants: Mesquite Solar 5, LLC.

Description: § 205(d) Rate Filing: Certificate of Concurrence to Amended and Restated Co-Tenancy and SFA to be effective 4/13/2023.

Filed Date: 4/12/23.

Accession Number: 20230412-5185.

Comment Date: 5 p.m. ET 5/3/23.

Docket Numbers: ER23-1625-000.

Applicants: Apex Solar LLC.

Description: Baseline eTariff Filing: Application for Market Based Rate Authority to be effective 4/13/2023.

Filed Date: 4/12/23.

Accession Number: 20230412-5190.

Comment Date: 5 p.m. ET 5/3/23.

Docket Numbers: ER23-1626-000.

Applicants: Mesquite Solar 5, LLC.

Description: § 205(d) Rate Filing: Certificate of Concurrence to Amended and Restated Co-Tenancy and SFA to be effective 4/13/2023.

Filed Date: 4/13/23.

Accession Number: 20230413-5000.

Comment Date: 5 p.m. ET 5/4/23.

Docket Numbers: ER23-1627-000.

Applicants: Mesquite Solar 4, LLC.

Description: § 205(d) Rate Filing: Certificate of Concurrence to Amended and Restated Co-Tenancy and SFA to be effective 4/13/2023.

Filed Date: 4/13/23.

Accession Number: 20230413-5001.

Comment Date: 5 p.m. ET 5/4/23.

Docket Numbers: ER23-1628-000.

Applicants: PJM Interconnection, L.L.C.

Description: § 205(d) Rate Filing: Amendment to ISA, Service Agreement No. 4668; Queue No. AE1-038 to be effective 6/12/2023.

Filed Date: 4/13/23.

Accession Number: 20230413-5002.

Comment Date: 5 p.m. ET 5/4/23.

Docket Numbers: ER23-1629-000.

Applicants: PPL Electric Utilities Corporation, PJM Interconnection, L.L.C.

Description: § 205(d) Rate Filing: PPL Electric Utilities Corporation submits tariff filing per 35.13(a)(2)(iii: PPL submits revisions to OATT Att. H-8G Depreciation Rates to be effective 6/12/2023.

Filed Date: 4/13/23.

Accession Number: 20230413-5048.

Comment Date: 5 p.m. ET 5/4/23.

Docket Numbers: ER23-1630-000.

Applicants: Idaho Power Company.

Description: § 205(d) Rate Filing: LGIA for Arco Wind No. 580 Between Idaho Power Company and Arco Wind, LLC to be effective 4/13/2023.

Filed Date: 4/13/23.

Accession Number: 20230413-5088.

Comment Date: 5 p.m. ET 5/4/23.

Docket Numbers: ER23-1631-000.

Applicants: Cavalier Solar A, LLC.

Description: Baseline eTariff Filing: Cavalier Solar A, LLC Shared Facilities Agreement to be effective 4/14/2023.

Filed Date: 4/13/23.

Accession Number: 20230413-5094.

Comment Date: 5 p.m. ET 5/4/23.

Docket Numbers: ER23-1632-000.

Applicants: Southwest Power Pool, Inc.

Description: § 205(d) Rate Filing: 4063 OPPD Interim GIA to be effective 4/12/2023.

Filed Date: 4/13/23.

Accession Number: 20230413-5141.

Comment Date: 5 p.m. ET 5/4/23.

Docket Numbers: ER23-1633-000.

Applicants: Southwest Power Pool, Inc.

Description: § 205(d) Rate Filing: 4064 OPPD Interim GIA to be effective 4/12/2023.

Filed Date: 4/13/23.

Accession Number: 20230413-5142.

Comment Date: 5 p.m. ET 5/4/23.

Docket Numbers: ER23-1634-000.

Applicants: Southwest Power Pool, Inc.

Description: § 205(d) Rate Filing: 4065 OPPD Interim GIA to be effective 4/12/2023.

Filed Date: 4/13/23.

Accession Number: 20230413-5143.

Comment Date: 5 p.m. ET 5/4/23.

Docket Numbers: ER23-1635-000.

Applicants: Southwest Power Pool, Inc.

Description: § 205(d) Rate Filing: 4066 OPPD Interim GIA to be effective 4/12/2023.

Filed Date: 4/13/23.

Accession Number: 20230413-5145.

Comment Date: 5 p.m. ET 5/4/23.

Docket Numbers: ER23-1636-000.

Applicants: Southwest Power Pool, Inc.

Description: § 205(d) Rate Filing: 4067 OPPD Interim GIA to be effective 4/12/2023.

Filed Date: 4/13/23.

Accession Number: 20230413-5147.

Comment Date: 5 p.m. ET 5/4/23.

Docket Numbers: ER23-1637-000.

Applicants: Idaho Power Company.

Description: § 205(d) Rate Filing: RS 171—IPC/BPA—Purchase, Sale and Security Agreement to be effective 3/24/2023.

Filed Date: 4/13/23.

Accession Number: 20230413-5162.

Comment Date: 5 p.m. ET 5/4/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2023.
Debbie-Anne A. Reese,
Deputy Secretary.

[FR Doc. 2023-08274 Filed 4-18-23; 8:45 am]

BILLING CODE 6717-01-P